NUCLEAR REGULATORY COMMISSION

[Docket Nos. 50-263; NRC-2023-0031]

Northern States Power Company, a Minnesota Corporation; Monticello Nuclear Generating Plant, Unit 1; Subsequent License Renewal and Record of Decision

AGENCY: Nuclear Regulatory Commission.

ACTION: Notice; issuance.

SUMMARY: The U.S. Nuclear Regulatory Commission (NRC) has issued Subsequent Renewed Facility Operating License No. DPR-22 to Northern States Power Company, a Minnesota corporation (NSPM, or the licensee), for Monticello Nuclear Generating Plant, Unit 1 (Monticello). In addition, the NRC has prepared a record of decision (ROD) that supports the NRC's decision to issue Subsequent Renewed Facility Operating License No. DPR-22.

DATES: The Subsequent Renewed Facility Operating License No. DPR-22 was issued on December 30, 2024.

ADDRESSES: Please refer to Docket ID NRC-2023-0031 when contacting the NRC about the availability of information regarding this document. You may obtain publicly available information related to this document using any of the following methods:

• Federal Rulemaking Website: Go to https://www.regulations.gov and search for Docket ID NRC-2023-0031. Address questions about Docket IDs in Regulations.gov to Stacy Schumann; telephone: 301-415-0624; email: Stacy.Schumann@nrc.gov. For technical questions, contact the individual listed in the For Further Information Contact section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Marieliz Johnson, Office of Nuclear Reactor Regulation, U.S. Nuclear Regulatory Commission, Washington, DC 20555-0001; telephone: 301-415-5861; email: Marieliz.Johnson@nrc.gov.

SUPPLEMENTARY INFORMATION:

I. Discussion

Notice is hereby given that the NRC has issued Subsequent Renewed Facility Operating License No. DPR-22 to Northern States Power Company, a Minnesota corporation (NSPM, the licensee), for Monticello Nuclear Generating Plant, Unit 1 (Monticello). NSPM is the operator of the facility. Subsequent Renewed Facility Operating License No. DPR-22 authorizes operation of Monticello by NSPM at reactor core power levels not in excess of 2,004 megawatts thermal, in accordance with the provisions of the Monticello subsequent renewed license and technical specifications. Notice is also given that the record of decision (ROD) that supports the NRC's decision to issue Subsequent Renewed Facility Operating License No. DPR-22 is available in the “Availability of Documents” section of this document.

As discussed in the ROD and the final site-specific environmental impact statement (EIS), published as NUREG-1437, Supplement 26, Second Renewal, “Site-Specific Environmental Impact Statement for License Renewal of Nuclear Plants, Supplement 26, Second Renewal, Regarding Subsequent License Renewal for Monticello Nuclear Generating Plant, Unit 1, Final Report,” dated November 2024, the final EIS documents the NRC staff's environmental review, including the determination that the adverse environmental impacts of subsequent license renewal for Monticello are not so great that preserving the option of subsequent license renewal for energy planning decisionmakers would be unreasonable. The final EIS conclusion is based on (1) information provided in the environmental report submitted by NSPM, as supplemented, (2) the NRC staff's consultations with Federal, State, local, and Tribal agencies, (3) the NRC staff's independent environmental review, (4) the NRC staff's consideration of public comments received during the scoping process and on the 2024 draft site-specific EIS, and (5) consideration of new and modified Category 1 and Category 2 environmental issues identified in Revision 2 to NUREG-1437, “Generic Environmental Impact Statement for License Renewal of Nuclear Plants” (August 2024). Monticello is a single-cycle, forced circulation, General Electric BWR-3, low power density boiling water reactor (BWR), located on a site situated on the southern bank of the Mississippi River in Monticello, Minnesota, approximately 35 miles northwest of Minneapolis, Minnesota. NSPM submitted its application for the subsquent renewed license, “Monticello Nuclear Generating Plant Unit 1 Subsequent License Renewal Application,” dated January 9, 2023, as supplemented by letters through February 29, 2024 (see Availability of Documents” section of this document). The NRC staff has determined that NSPM's application complies with the standards and requirements of the Atomic Energy Act of 1954, as amended (the Act), and NRC's regulations. As required by the Act and NRC regulations in chapter 1 of title 10 of the Code of Federal Regulations (10 CFR), the NRC has made appropriate findings, which are set forth in the subsequent renewed license.

A public notice of the NRC's acceptance for docketing of the subsequent renewed license application and an opportunity for a hearing was published in the Federal Register on March 3, 2023 (88 FR 13474). Further, a notice of intent to prepare a site-specific EIS and conduct environmental scoping was published on March 10, 2023 (88 FR 15103). On March 18, 2024, the NRC staff issued its Safety Evaluation Report concerning the Monticello subsequent license renewal application. In April 2024, the NRC staff issued a draft site-specific EIS for public comment, providing the preliminary results of the staff's environmental evaluation of the Monticello SLR application. A notice of availability of the site-specific draft EIS was published in the Federal Register on April 24, 2024 (89 FR 31225). On November 15, 2024, the NRC staff issued a final site-specific EIS, providing its final evaluation of the environmental impacts of Monticello subsequent license renewal; a notice of issuance was published in the Federal Register on November 21, 2024 (89 FR 92185).

For further details with respect to this action, see (1) NSPM's subsequent license renewal application for Monticello, dated January 9, 2023, as supplemented by letters dated through February 29, 2024; (2) the NRC's safety evaluation report, dated March 2024; (3) the NRC's final EIS (NUREG-1437, Supplement 26, Second Renewal) for Monticello dated November 2024; and (4) the NRC's ROD, issued in December 2024.

II. Availability of Documents

The documents identified in the following table are available to interested persons through ADAMS, as indicated.

Document description | ADAMS accession No.
Record of Decision—Subsequent License Renewal Application Review—Monticello Nuclear Generating Plant, Unit 1, dated December 30, 2024 | ML24324A212.
Safety Evaluation Report—Subsequent License Renewal Application Review—Monticello Nuclear Generating Plant, Unit 1, dated March 18, 2024 | ML24077A001.
NUREG-1437, Site-Specific Environmental Impact Statement for License Renewal of Nuclear Plants, Supplement 26, Second Renewal, Regarding Subsequent License Renewal for Monticello Nuclear Generating Plant, Unit 1, Final Report, dated November 2024 | ML24309A221.
Monticello Nuclear Generating Plant, Unit 1—Subsequent License Renewal Application, dated January 9, 2023 | ML23009A352 (Package).
Monticello Nuclear Generating Plant, Unit 1—Subsequent License Renewal Application Supplement 1, dated April 3, 2023 | ML23094A136.
Monticello Nuclear Generating Plant, Unit 1—Subsequent License Renewal Application Supplement 2, dated June 26, 2023 | ML23177A218.
NUREG-1437, Site-Specific Environmental Impact Statement for License Renewal of Nuclear Plants Supplement 26, Second Renewal Regarding Subsequent License Renewal for Monticello Nuclear Generating Plant, Unit 1, Draft Report for Comment, dated April 2024 | ML24102A276.
Monticello Nuclear Generating Plant, Unit 1—License Renewal Application Supplement 3, dated July 11, 2023 | ML23193B026.
Monticello Nuclear Generating Plant, Unit 1—Subsequent License Renewal Application Supplement 4 and Responses to Request for Confirmation of Information—Set 1, dated July 18, 2023 | ML23199A154.
Monticello Nuclear Generating Plant, Unit 1—Subsequent License Renewal Application Response to Request for Additional Information Set 1, dated August 15, 2023 | ML23227A175.
Monticello Nuclear Generating Plant, Unit 1—Subsequent License Renewal Application Supplement 5, dated August 28, 2023 | ML23240A695.
NUREG-1437, Revision 2, Volumes 1, 2, and 3, Generic Environmental Impact Statement for License Renewal of Nuclear Plants, dated August 2024 | ML24087A133 (Package).
Monticello Nuclear Generating Plant, Unit 1—Subsequent License Renewal Application Response to Request for Additional Information Set 2 and Supplement 6, dated September 5, 2023 | ML23248A474.
Monticello Nuclear Generating Plant, Unit 1—Subsequent License Renewal Application Response to Request for Additional Information Set 3, dated September 22, 2023 | ML23265A158.
Monticello Nuclear Generating Plant, Unit 1—Subsequent License Renewal Application Response to Request for Confirmation of Information Set 2, dated October 3, 2023 | ML23276B433.
Monticello Nuclear Generating Plant, Unit 1—Subsequent License Renewal Application Response to Request for Additional Information Round 2—Set 1, dated November 9, 2023 | ML23313A158.
Monticello Nuclear Generating Plant, Unit 1—Subsequent License Renewal Application Supplement 7, dated November 30, 2023 | ML23334A147.
Monticello Nuclear Generating Plant, Unit 1—Subsequent License Renewal Application Supplement 8, dated January 11, 2024 | ML24012A051.
Monticello Nuclear Generating Plant, Unit 1—Subsequent License Renewal Application Annual Update 1 and Supplement 9, dated February 29, 2024 | ML24060A269.

Dated: December 30, 2024.
For the Nuclear Regulatory Commission.
Michele Sampson,
Director, Division of New and Renewed Licenses, Office of Nuclear Reactor Regulation.

[FR Doc. 2024-31579 Filed 1-2-25; 8:45 am]

BILLING CODE 7590-01-P